INTERNATIONAL TRADE COMMISSION

[Investigation No. 337-TA-780]

In the Matter of Certain Protective Cases and Components Thereof Notice of Commission Determination Not To Review an Initial Determination Granting Complainant's Motion To Amend the Complaint and Notice of Investigation To Add a Respondent

AGENCY: U.S. International Trade Commission.

ACTION: Notice.

SUMMARY: Notice is hereby given that the U.S. International Trade Commission has determined not to review the presiding administrative law judge's (“ALJ”) initial determination (“ID”) (Order No. 3) granting Complainant's motion to amend the complaint and notice of investigation.

FOR FURTHER INFORMATION CONTACT: Panyin A. Hughes, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 30, 2011, based on a complaint filed by Otter Products, LLC of Fort Collins, Colorado (“Otter”). 76 FR. 38417 (June 30, 2011). The complaint alleged violations of section 337 of the Tariff Act of 1930 (19 U.S.C. 1337) in the importation into the United States, the sale for importation, and the sale within the United States after importation of certain protective cases and components thereof by reason of infringement of various claims of United States Patent Nos. 7,933,122; D600,908; D617,784; D615,536; D617,785; D634,741; and D636,386; and United States Trademark Registration Nos. 3,788,534; 3,788,535; 3,623,789; and 3,795,187. The complaint named twenty nine respondents, including Cellaris Franchise, Inc. of Alpharetta, Georgia (“Cellaris”).

On July 19, 2011, Otter filed a motion under Commission Rule 210.14(b), for leave to amend the Complaint and Notice of Investigation to add Global Cellular, Inc. of Alpharetta, Georgia as respondent. On July 29, 2011, the Commission investigative attorney filed a response in support of the motion. No other party filed a response.

On August 3, 2011, the ALJ issued the subject ID, granting Otter's motion pursuant to Commission Rule 210.14(b) (19 CFR 210.14(b)). No party petitioned for review of the ID. The Commission has determined not to review the ID.

The authority for the Commission's determination is contained in section 337 of the Tariff Act of 1930, as amended (19 U.S.C. 1337), and in section 210.42 of the Commission's Rules of Practice and Procedure (19 CFR 210.42).

By order of the Commission.
Issued: August 18, 2011.
James R. Holbein,
Secretary to the Commission.

[FR Doc. 2011-21587 Filed 8-23-11; 8:45 am]

BILLING CODE 7020-02-P